DEPARTMENT OF THE INTERIOR

National Park Service

[NPS-WASO-NRNHL-16918; PPWOCRADI0, PCU00RP14.R50000]

National Register of Historic Places; Notification of Pending Nominations and Related Actions

Nominations for the following properties being considered for listing or related actions in the National Register were received by the National Park Service before October 4, 2014. Pursuant to section 60.13 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service, 1201 Eye St. NW., 8th floor, Washington, DC 20005; or by fax, 202-371-6447. Written or faxed comments should be submitted by November 18, 2014. Before including your address, phone number, email address, or other personal identifying information in your comment, you should be aware that your entire comment—including your personal identifying information—may be made publicly available at any time. While you can ask us in your comment to withhold your personal identifying information from public review, we cannot guarantee that we will be able to do so.

Dated: October 14, 2014.
J. Paul Loether,
Chief, National Register of Historic Places/National Historic Landmarks Program.

AMERICAN SAMOA

Western District

Turtle and Shark, 2506 Turtle and Shark Rd., Vaitogi, 14000925

CALIFORNIA

Los Angeles County

West Los Angeles Veterans Affairs Historic District, (United States Second Generation Veterans Hospitals MPS) 11301 Wilshire Blvd., Los Angeles, 14000926

COLORADO

Larimer County

Great Western Sugar Company Effluent Flume and Bridge, Cache la Poudre R., 1/2 mi. W. of Timberline Rd., Fort Collins, 14000927

GEORGIA

Bibb County

Miller, A.L., High School and A.L. Miller Junior High School, 2241 Montpelier Ave., Macon, 14000928

KANSAS

Johnson County

Sunflower Village Historic District, 36000 103rd St., DeSoto, 14000929

MISSOURI

Franklin County

Busch, John B., Brewery Historic District (Boundary Increase), (Washington, Missouri MPS) 813 Jefferson St., Washington, 14000930

Jackson County

Kansas City Parks and Boulevards Historic District, (Kansas City System of Parks and Boulevards) Roughly bounded by Missouri R., Hardesty Ave., Armour Blvd. & State Line, Kansas City, 14000931

NEW JERSEY

Morris County

Mendham Historic District (Boundary Increase), E. & W. Main Sts., Peacock Ln., Hampton St., Hilltop & Talmage Rds., Mendham Borough, 14000932

Ocean County

Beach Haven Historic District (Boundary Increase), Roughly bounded by Atlantic, Bay, 5th & Chatsworth, Beach Haven Borough, 14000933

NEW YORK

Bronx County

Chevra Linas Hazedek Synagogue of Harlem and the Bronx, 1115 Ward Ave., Bronx, 14000934

Chautauqua County

Jamestown Downtown Historic District, 23-28, 20-408 N. Main, 200-322 Washington, 201-326 Cherry, 207-317 Pine, 215-417 Spring, 8-21, 100-200 E. 4th Sts., Jamestown, 14000935

Dutchess County

Home of Franklin D. Roosevelt National Historic Site (Boundary Increase), Albany Post Rd., Hyde Park, 14000936

Niagara County

High and Locust Streets Historic District, 23-54 Park Pl., 143-399 High, 119-224 Locust & 23-43 Spalding Sts., Lockport, 14000937

Queens County

Benevolent and Protective Order of Elks, Lodge Number 878, 82-10, 82-20 Queens Blvd., New York, 14000938

Yates County

Beddoe-Rose Family Cemetery, E. of W. Bluff Dr., Keuka Lake State Park, Jerusalem, 14000939

TENNESSEE

Davidson County

Archeological Site 40DV307, (Archaic Shell-Bearing Sites of the Middle Cumberland River Valley of Tennessee MPS) Address Restricted, Nashville, 14000940

Grainger County

Richland, 1760 Rutledge Pike, Blaine, 14000941

Henderson County

Mount Pisgah Missionary Baptist Church and Cemetery, 3435 Scarce Creek Rd., Wildersville, 14000942

VIRGINIA

Arlington County

Unitarian Universalist Church of Arlington, 4444 Arlington Blvd., Arlington, 14000943

Charlottesville Independent City

Fry's Spring Historic District, Roughly Highland, Jefferson Park, Monte Vista, Stribling, Raymond, Robertson, Sunset & Todd Aves., Hill St., Charlottesville (Independent City), 14000944

Loudoun County

Murray Hill, 42910 Edwards Ferry Rd., Leesburg, 14000945

Lynchburg Independent City

Doyle Florist Inc.—H.R. Schenkel Inc. Greenhouse Range, 1339 Englewood St., Lynchburg (Independent City), 14000946

Montgomery County

Barracks No. 1, 280 Alumni Mall, Blacksburg, 14000947

Norfolk Independent City

Security Storage and Safe Deposit Company Warehouse, 517-523 Front St., Norfolk (Independent City), 14000948

A request for removal has been received for the following resources:

TENNESSEE

Henry County

Bruce, H. L., House, (Paris MRA) 202 S. Poplar St., Paris, 88001431

Rutherford County

Williamson, Thomas, House, 2263 Little Rock Rd., Eagleville, 96000687

[FR Doc. 2014-26002 Filed 10-31-14; 8:45 am]

BILLING CODE 4312-51-P